DEPARTMENT OF ENERGY

Federal Energy Regulatory Commission

[Docket No. CP21-113-000]

Alliance Pipeline, L.P.; Notice of Revised Schedule for Environmental Review of the Proposed Three Rivers Interconnection Project

This notice provides the Federal Energy Regulatory Commission staff's revised schedule for completion of the final environmental impact statement (EIS) for Alliance Pipeline L.P.'s (Alliance) Three Rivers Interconnection Project. The first notice of schedule, issued on February 10, 2022, identified September 16, 2022 as the final EIS issuance date. The Project would be located in the vicinity of a facility regulated by the Nuclear Regulatory Commission which required the completion of a safety analysis to determine if the action would impact safe operation of the facility.¹ The findings of this assessment and any subsequent actions or requirements were necessary for staff to complete the final EIS for the project. On November 16, 2022, Alliance submitted a summary of the findings of the completed safety analysis and staff has revised the schedule for issuance of the final EIS.

¹ On September 15, 2022 the Commission issued a notice suspending the environmental review schedule for the Three Rivers Interconnection Project based upon the required safety analysis having not been completed.

Schedule for Environmental Review

Issuance of the Notice of Availability of the final EIS—January 13, 2023

90-day Federal Authorization Decision Deadline ²—April 13, 2023s

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-113-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 2, 2022.
Kimberly D. Bose,
Secretary.

[FR Doc. 2022-26679 Filed 12-7-22; 8:45 am]

BILLING CODE 6717-01-P